DEPARTMENT OF AGRICULTURE

Submission for OMB Review; Comment Request

July 17, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by August 22, 2013 will be considered. Written comments should be addressed to: Desk Officer for Agriculture, Office of Information and Regulatory Affairs, Office of Management and Budget (OMB), New Executive Office Building, 725—17th Street, NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Spring Viremia of Carp-Susceptible Finfish and their Gametes, and Diagnostic Specimens Importation Permits.

OMB Control Number: 0579-0301.

Summary of Collection: The Animal Health Protection Act (AHPA) of 2002 is the primary Federal law governing the protection of the health of animals under the Animal and Plant Health Inspection Service (APHIS) of the United States Department of Agriculture (USDA) regulatory authority. APHIS has import restrictions at title 9, parts 92 through 98, of the CFR. Sections 93.900 through 93.906 contain the requirements to prevent the introduction spring viremia of carp disease (SVC) into the United States. SVC is disease of certain species of finfish that is caused by an eponymous rhabdovirus. The disease is considered extremely contagious, and there are currently no U.S. approved vaccines or treatments for the virus.

Need and Use of the Information: APHIS has developed import requirements for SVC-susceptible fish species. This necessitates the use of several information collection activities, including the completion of VS forms 17-129, Fish Import Permit Application, 17-29, Application for Import or In Transit Permit, 16-3, Diagnostic Specimen Import Permit Application, 17-136, Refusal of Entry and Order to Dispose of Fish; a health certificate and or cleaning and disinfection certificate; 72-hour notification of arrival, and recordkeeping requirements. Without the information, APHIS would be unable to effectively protect farmed fish populations that are known to be susceptible to SVC from imports of finfish or their gametes infected with SVC virus.

Description of Respondents: Business or other for-profit; Federal Government.

Number of Respondents: 77.

Frequency of Responses: Recordkeeping; Reporting: On occasion.

Total Burden Hours: 1,017.

Ruth Brown,
Departmental Information Collection Clearance Officer.

[FR Doc. 2013-17557 Filed 7-22-13; 8:45 am]

BILLING CODE 3410-34-P